DEPARTMENT OF THE TREASURY

Agency Information Collection Activities; Submission for OMB Review; Comment Request; Multiple CDFI Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 26, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Community Development Financial Institutions (CDFI)

Title: Annual Compliance Reports.

OMB Control Number: 1559-XXXX.

Type of Review: New collection (Request for a new OMB Control Number).

Abstract: This collection captures quantitative information from Community Development Financial Institutions Program (CDFI Program) and Native American CDFI Assistance Program (NACA Program) recipients. This information is used to assess: (1) The recipient's activities as detailed in their application materials; (2) the recipient's approved use of the assistance; (3) the recipient's financial condition; and (4) overall compliance with the terms and conditions of the assistance agreement entered into by the CDFI Fund and the recipient.

Forms: CDFI Annual Performance Progress Report (Private Sector), CDFI Annual Performance Progress Report (State, Local, Tribal Governments), CDFI Annual Financial Statement Audit Report (Private Sector), CDFI Annual Financial Statement Audit Report (State, Local, Tribal Governments), CDFI Annual Single Audit Report (Private Sector), CDFI Annual Single Audit Report (State, Local, Tribal Governments).

Affected Public: Businesses or other for-profits, Not-for-profit institutions, and State, Local, and Tribal Governments.

Estimated Total Annual Burden Hours: 858.

Title: Annual Compliance Reports.

OMB Control Number: 1559-0046.

Type of Review: Revision of a currently approved collection.

Abstract: The primary intent of the Annual Certification and Data Collection Report Form is to ensure that Community Development Financial Institutions (CDFI) continue to meet the requirements to be certified CDFIs. It is also an annual method to ensure that organizational information is up-to-date. The financial and portfolio data will be used by the CDFI Fund to gain insight on the CDFI industry. Information provided in these sections will not impact a CDFI's certification status or applications for CDFI Fund programs.

Forms: Annual Certification and Data Collection Report Form.

Affected Public: Businesses or other for-profits.

Estimated Total Annual Burden Hours: 8,663.

Title: Disability Funds Financial Assistance Application.

OMB Control Number: 1559-0048.

Type of Review: Extension without change of a currently approved collection.

Abstract: The Consolidated Appropriations Act of 2017 (Act; Pub. L. 115-31) provided the CDFI Fund up to $3 million to provide “technical and financial assistance to CDFIs that fund projects to help individuals with disabilities.” The CDFI Fund created the Disability Funds-Financial Assistance (DF-FA) Application in response to this Congressional directive. Furthermore, the Consolidated Appropriations Act of 2018 (Pub. L. 115-141) provided an additional $3 million towards this objective. The CDFI Fund intends to provide DF-FA awards to certified CDFIs with a track record of serving individuals with disabilities. For purposes of the DF-FA awards selection process, Disability will mean a person with a physical or mental impairment that substantially limits one or more major life activities; a person who has a history or record of such an impairment; or a person who is perceived by others as having such an impairment, as defined by the Americans with Disabilities Act (ADA). Applicants selected to receive DF-FA awards will have a demonstrated track record of serving individuals with disabilities, specifically by providing financial products and services and/or development services that have a primary purpose of benefiting individuals with disabilities. Additionally, successful applicants will demonstrate that they will increase and/or expand their financial products and services, and/or development services, to address the challenges of individuals with disabilities, in areas such as: asset development; affordable, accessible, and safe housing; employment opportunities; and access to assistive products and services that support health and community living. The CDFI Fund will administer DF-FA awards in conjunction with the annual Community Development Financial Institutions Program (CDFI Program) and Native American CDFI Assistance Program (NACA Program) application process.

Forms: 2018-02.

Affected Public: Businesses or other for-profits.

Estimated Total Annual Burden Hours: 360.

Authority: 44 U.S.C. 3501 et seq.

Dated: August 22, 2018.
Jennifer P. Quintana,
Treasury PRA Clearance Officer.

[FR Doc. 2018-18492 Filed 8-24-18; 8:45 am]

BILLING CODE 4810-70-P